DEPARTMENT OF LABOR

Employment and Training Administration

[ SGA/DFA-PY 06-14]

Preparing Ex-Offenders for the Workplace Through Beneficiary-Choice Contracting; Solicitation for Grant Applications (SGA)

AGENCY: Employment and Training Administration (ETA), Labor.

ACTION: Notice; amendment.

SUMMARY: The Employment and Training Administration published a document in the Federal Register on April 16, 2007, announcing the availability of funds and solicitation for grant applications to address the specific workforce challenges of ex-offenders and produce positive outcomes with a particular focus on employment and reduced recidivism. The document is hereby amended.

FOR FURTHER INFORMATION CONTACT: Melissa Abdullah, Grants Management Specialist, Telephone (202) 693-3346.

Amendment

In the Federal Register of April 16, 2007, in FR Volume 72, Number 72:

1. On page 19027, in the middle column, Part I, Service Model, the following is added: Grants must be for a geographically-defined city or local community that serves participants within that area.

2. On page 19028, in the left column, Part I, Services Coordinator, stated the following: Perform all other aspects of managing the Federal grant-including fiscal controls and responsibility.

This section is amended to add: The applicant and fiscal agent for this grant must be the same organization.

3. On page 19032, starting in the left column, Part II (3) Other Eligibility Requirements, Beneficiary Eligibility, stated the following: Individuals aged 18 to 29 who have been convicted of a Federal or State crime through the adult criminal justice system, are returning from a State institution, and are not currently enrolled in a traditional program may be served by these grants.

This sentence is replaced with: Individuals aged 18 to 29 who have been convicted of a Federal or State crime through the adult criminal justice system and are returning from a State or Federal institution may be served by these grants.

4. On page 19032, in the right column, Part IV (2) Content and Form of Application Submission, stated the following: The additional materials may not exceed (15) fifteen pages in addition to the Technical Proposal.

This sentence is replaced with: The additional materials may not exceed (20) twenty pages in addition to the Technical Proposal.

Signed at Washington, DC, this 7th day of May, 2007.
Eric Luetkenhaus,
Grant Officer, Employment & Training Administration.

[FR Doc. E7-9172 Filed 5-11-07; 8:45 am]

BILLING CODE 4510-FT-P